FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10 a.m.

Date: March 24, 2004.

Place: 4th Floor, Conference Room, Federal Retirement Thrift Investment Board, 1250 H Street, NW., Washington, DC.

Status: Open.

Matters to be Considered:

1. Approval of the minutes of the September 23, 2003, meeting.

2. Report of the Executive Director on Thrift Savings Plan status.

3. Pending loan program changes.

4. “Life” funds.

5. Status of parallel call center.

6. Legislation.

7. New business.

FOR FURTHER INFORMATION CONTACT: Elizabeth S. Woodruff, Committee Management Officer, on (202) 942-1660.

Dated: March 4, 2004.
Elizabeth S. Woodruff,
General Counsel, Federal Retirement Thrift Investment Board.

[FR Doc. 04-5275 Filed 3-8-04; 8:45 am]

BILLING CODE 6760-01-P